NATIONAL SCIENCE FOUNDATION

Proposal Review Panel for Physics; Notice of Meeting

In accordance with the Federal Advisory Committee Act (Pub. L. 92-463, as amended), the National Science Foundation (NSF) announces the following meeting:

Name and Committee Code: Proposal Review Panel for Physics—Reverse Site Visit for ATLAS FDR Review (1208).

Date and Time: September 11-13, 2019; 8:00 a.m.-5:00 p.m.

Place: National Science Foundation, 2415 Eisenhower Avenue, Alexandria, VA 22314.

Type of Meeting: Part-Open.

Contact Person: Dr. Mark Coles, Program Director, Division of Physics, NSF, 2415 Eisenhower Avenue, Room W 9216, Alexandria, VA 22314; Telephone: (703) 292-4432.

Purpose of Meeting: Reverse site visit to provide an evaluation of the progress of the projects at the host site for the Division of Physics at the National Science Foundation.

Agenda

September 11, 2019

08:00 a.m.-08:30 a.m.

Executive Session—Closed

08:30 a.m.-10:15 a.m.

Plenary—Open

10:15 a.m.-10:30 a.m.

Break—Open

10:30 a.m.-12:00 p.m.

Plenary—Open

12:00 p.m.-01:00 p.m.

Lunch—Open

01:00 p.m.-04:00 p.m.

Trigger—Closed

04:00 p.m.-05:00 p.m.

Executive Session—Closed

September 12, 2019

08:00 a.m.-09:00 a.m.

Executive Session/Follow Up—Closed

09:00 a.m.-12:00 p.m.

Liquid Argon—Open

12:00 p.m.-01:00 p.m.

Lunch—Closed

01:00 a.m.-04:00 p.m.

Tile Cal—Open

04:00 p.m.-05:00 p.m.

Executive Session—Closed

September 13, 2019

08:00 a.m.-09:00 a.m.

Executive Session/Follow Up—Closed

09:00 a.m.-12:00 p.m.

Muon—Open

12:00 p.m.-01:00 p.m.

Lunch—Closed

01:00 p.m.-02:00 p.m.

Executive Session—Closed

02:00 p.m.-03:00 p.m.

Follow Up from Morning session—Open

03:00 p.m.-05:00 p.m.

Executive Session—Closed

05:00 p.m.

Panel Closeout summary in plenary—Closed

Reason for Closing: The work being reviewed during closed portions of the reverse site visit include information of a proprietary or confidential nature, including technical information; financial data, such as salaries and personal information concerning individuals associated with the project. These matters are exempt under 5 U.S.C. 552b(c), (4) and (6) of the Government in the Sunshine Act.

Dated: August 13, 2019.
Crystal Robinson,
Committee Management Officer.

[FR Doc. 2019-17653 Filed 8-15-19; 8:45 am]

BILLING CODE 7555-01-P